DEPARTMENT OF TRANSPORTATION

Federal Aviation Administration

14 CFR Part 39

[Docket No. FAA-2005-20079; Directorate Identifier 2004-NM-147-AD]

RIN 2120-AA64

Airworthiness Directives; Airbus Model A300 B2 and B4 Series Airplanes; Model A300 B4-600, B4-600R, and F4-600R Series Airplanes, and Model C4-605R Variant F Airplanes (Collectively Called A300-600); and Model A310 Series Airplanes

AGENCY: Federal Aviation Administration (FAA), Department of Transportation (DOT).

ACTION: Notice of proposed rulemaking (NPRM).

SUMMARY: The FAA proposes to adopt a new airworthiness directive (AD) for certain Airbus models, as specified above. This proposed AD would require installing safety signs on all passenger/crew doors, emergency exit doors, and cargo compartment doors. This proposed AD is prompted by a report of injuries occurring on in-service airplanes when crewmembers forcibly initiated opening of passenger/crew doors against residual pressure causing the doors to rapidly open. We are proposing this AD to ensure that crewmembers are informed of the risks associated with forcibly opening passenger/crew, emergency exit, and cargo doors before an airplane is fully depressurized, which will prevent injury to crewmembers, and subsequent damage to the airplane caused by the rapid opening of the door.

DATES: We must receive comments on this proposed AD by February 18, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Airbus, 1 Rond Point Maurice Bellonte, 31707 Blagnac Cedex, France.

You can examine the contents of this AD docket on the Internet at http://dms.dot.gov, or in person at the Docket Management Facility, U.S. Department of Transportation, 400 Seventh Street SW., room PL-401, on the plaza level of the Nassif Building, Washington, DC. This docket number is FAA-2005-20079; the directorate identifier for this docket is 2004-NM-147-AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Comments Invited

We invite you to submit any relevant written data, views, or arguments regarding this proposed AD. Send your comments to an address listed under ADDRESSES. Include “Docket No. FAA-2005-20079; Directorate Identifier 2004-NM-147-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket website, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Direction Générale de l'Aviation Civile (DGAC), which is the airworthiness authority for France, notified us that an unsafe condition may exist on certain Airbus Model A300 B2 and B4 series airplanes; Model A300 B4-600, B4-600R, and F4-600R series airplanes, and Model C4-605R Variant F airplanes (collectively called A300-600); and Model A310 series airplanes. The DGAC advises that accidents occurred on in-service airplanes when crewmembers forcibly initiated opening of passenger/crew doors against residual pressure causing the doors to rapidly open. If cabin crewmembers are not informed of the risks associated with opening passenger/crew and emergency exit doors when an airplane is not fully depressurized, they may attempt to forcibly open the doors. This condition, if not corrected, could result in injury to crewmembers, and subsequent damage to the airplane caused by the rapid opening of the door.

Relevant Service Information

Airbus has issued the following service bulletins:

Airbus model | Airbus service bulletin | Revision | Date
A300 B2 and B4 series airplanes | A300-11-0027 | 01 | January 30, 2004.
A300-600 airplanes | A300-11-6001 | 01 | January 30, 2004.
A310 series airplanes | A310-11-2002 | 03 | February 4, 2004.

The service bulletins describe procedures for installing safety signs on the inside and outside of the passenger/crew doors and emergency exit doors, and on the outside of the cargo compartment doors. Accomplishing the actions specified in the service information is intended to adequately address the unsafe condition. The DGAC mandated the service information and issued French airworthiness directive F-2004-003, dated January 7, 2004, to ensure the continued airworthiness of these airplanes in France.

FAA's Determination and Requirements of the Proposed AD

These airplane models are manufactured in France and are type certificated for operation in the United States under the provisions of § 21.29 of the Federal Aviation Regulations (14 CFR 21.29) and the applicable bilateral airworthiness agreement. Pursuant to this bilateral airworthiness agreement, the DGAC has kept the FAA informed of the situation described above. We have examined the DGAC findings, evaluated all pertinent information, and determined that we need to issue an AD for products of this type design that are certificated for operation in the United States.

Therefore, we are proposing this AD, which would require accomplishing the actions specified in the service information described previously.

Costs of Compliance

This proposed AD would affect about 182 airplanes of U.S. registry. The proposed actions would take about 5 work hours per airplane, at an average labor rate of $65 per work hour. Required parts would cost about $0 per airplane. Based on these figures, the estimated cost of the proposed AD for U.S. operators is $59,150, or $325 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2005-20079; Directorate Identifier 2004-NM-147-AD.

Comments Due Date

(a) The Federal Aviation Administration must receive comments on this AD action by February 18, 2005.

Affected ADs

(b) None.

Applicability

(c) This AD applies to Airbus Model A300 B2 and B4 series airplanes; Model A300 B4-600, B4-600R, and F4-600R series airplanes, and Model C4-605R Variant F airplanes (collectively called A300-600); and Model A310 series airplanes; certificated in any category; except those modified in production by either Airbus Modifications 10152 and 10219, or Modifications 8357 and 10151.

Unsafe Condition

(d) This AD was prompted by reports of injuries occurring on in-service airplanes when crewmembers forcibly initiated opening of passenger/crew doors against residual pressure causing the doors to rapidly open. We are issuing this AD to ensure that crewmembers are informed of the risks associated with forcibly opening passenger/crew, emergency exit, and cargo doors before an airplane is fully depressurized, which will prevent injury to crewmembers, and subsequent damage to the airplane caused by the rapid opening of the door.

Compliance

(e) You are responsible for having the actions required by this AD performed within the compliance times specified, unless the actions have already been done.

Service Bulletin References

(f) The term “service bulletin,” as used in this AD, means the Accomplishment Instructions of the following service bulletins, as applicable:

(1) For Model A300 B2 and B4 series airplanes: Airbus Service Bulletin A300-11-0027, Revision 01, dated January 30, 2004;

(2) For Model A300-600 airplanes: Airbus Service Bulletin A300-11-6001, Revision 01, dated January 30, 2004; and

(3) For Model A310 series airplanes: Airbus Service Bulletin A310-11-2002, Revision 03, dated February 4, 2004.

Install Safety Signs

(g) Within 36 months after the effective date of this AD, install safety signs on the inside and outside of the passenger/crew doors and emergency exit doors, and on the outside of the cargo compartment doors, in accordance with the applicable service bulletin.

Credit for Previous Service Bulletins

(h) Actions done before the effective date of this AD in accordance with Airbus Service Bulletin A300-11-0027, dated October 27, 1993; Airbus Service Bulletin A300-11-6001, dated October 27, 1993; and Airbus Service Bulletin A300-11-2002, Revision 2, dated January 27, 1995; as applicable; are acceptable for compliance with the requirements of paragraph (g) of this AD.

Alternative Methods of Compliance (AMOCs)

(i) The Manager, International Branch, ANM-116, Transport Airplane Directorate, FAA, has the authority to approve AMOCs for this AD, if requested in accordance with the procedures found in 14 CFR 39.19.

Related Information

(j) French airworthiness directive F-2004-003, dated January 7, 2004, also addresses the subject of this AD.

Issued in Renton, Washington, on January 6, 2005.
Ali Bahrami,
Manager, Transport Airplane Directorate, Aircraft Certification Service.

[FR Doc. 05-993 Filed 1-18-05; 8:45 am]

BILLING CODE 4910-13-P